DEPARTMENT OF ENERGY

Federal Energy Regulatory Commission

[Docket No. IC20-13-000]

Commission Information Collection Activities (FERC-603); Comment Request; Extension

AGENCY: Federal Energy Regulatory Commission, DOE.

ACTION: Notice of information collection and request for comments.

SUMMARY: In compliance with the requirements of the Paperwork Reduction Act of 1995, the Federal Energy Regulatory Commission (Commission or FERC) is soliciting public comment on the currently approved information collection FERC-603 (Critical Energy/Electric Infrastructure Information Data Request) and submitting the information collection to the Office of Management and Budget (OMB) for review. Any interested person may file comments directly with OMB and should address a copy of those comments to the Commission as explained below.

DATES: Comments on the collection of information are due August 17, 2020.

ADDRESSES: Comments should be submitted to OMB through www.reginfo.gov/public/do/PRAMain, Attention: Federal Energy Regulatory Commission Desk Officer. Please identify OMB Control Number 1902-0197 in the subject line of your comments; comments should be sent within 30 days of publication of this notice in the Federal Register. OMB submissions must be formatted and filed in accordance with submission guidelines at www.reginfo.gov/public/do/PRAMain. Using the search function under the “Currently Under Review” field, select Federal Energy Regulatory Commission; click “submit,” and select “comment” to the right of the subject collection.

A copy of the comments should also be sent to the Commission, in Docket No. IC20-13-000, by the following methods:

• eFiling at Commission's Website: http://www.ferc.govp.

• Mail by U.S. Postal Service: Federal Energy Regulatory Commission, Secretary of the Commission, 888 First Street NE, Washington, DC 20426

• Deliveries other than by U.S. Postal Service: Health and Human Services, 12225 Wilkins Avenue, Rockville, Maryland 20852.

FERC submissions must be formatted and filed in accordance with submission guidelines at: http://www.ferc.gov. For user assistance, contact FERC Online Support by email at ferconlinesupport@ferc.gov, or by phone at: (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov and telephone at (202) 502-8663.

SUPPLEMENTARY INFORMATION:

Title: FERC-603, Critical Energy/Electric Infrastructure Information Data Request.

OMB Control No.: 1902-0197.

Type of Request: Three-year extension of the FERC-603 information collection requirements with no changes to the current reporting and recordkeeping requirements, other than the signed statement from the requester attesting to the accuracy of the information provided in the request, which was inadvertently omitted from the prior version of the form.¹

¹ This requirement was inadvertently omitted from the previous form. See 18 CFR 388.113(g)(5)(i)(D).

Abstract: The Commission published a 60-day Notice ² in the Federal Register on March 27, 2020, requesting public comment. In addition, the Commission issued an Errata Notice on April 1, 2020, including the form.³ The Commission received one comment from the Eastern Interconnection Planning Collaborative (EIPC) with recommendations for changes to the Form 603 and to the CEII process generally. EIPC states that the form does not adequately protect CEII, specifically the detailed grid information included in Parts 2, 3, and 6 of FERC Form No. 715. EIPC urges the Commission to revamp the statement of need section to “require a demonstration that dissemination of the information would enhance the work of those entities charged with ensuring bulk power reliability of the electric grid.”

² 85 FR 17326

³ See https://elibrary.ferc.gov/idmws/common/OpenNat.asp?fileID=15501007 and https://elibrary.ferc.gov/idmws/common/OpenNat.asp?fileID=15501008.

While the Commission acknowledges EIPC's comments and Commission staff will coordinate a meeting to hear EIPC's concerns, the purpose of the FERC-603 form review is to request comments on the burden on public requesters who need to complete the form to receive CEII. EIPC's comments do not address this issue and could result in additional burdens on CEII requesters. Accordingly, EIPC's concerns do not support modifying the CEII request form for purposes of the Paperwork Reduction Act. We emphasize and reiterate, however, that EIPC will have a subsequent opportunity to more fully express its concerns and to be heard in the appropriate forum and at the appropriate time.

FERC-603 is used by the Commission to implement procedures for individuals (including federal and state agencies, consultants, and others) with a valid or legitimate need for access to Critical Energy/Electric Infrastructure Information (CEII), which is exempt from disclosure under the Freedom of Information Act (5 U.S.C. 552), subject to a non-disclosure agreement. Examples of the various non-disclosure agreements, and other agreements, that are used to ensure that the information is not improperly shared with individuals who have not been approved to receive the specific CEII by the Commission, are available at: https://www.ferc.gov/enforcement-legal/ceii/electronic-ceii-request-form.

On February 21, 2003, the Commission issued Order No. 630 (66 FR 52917) to address the appropriate treatment of CEII in the aftermath of the September 11, 2001, terrorist attacks and to restrict access due to the ongoing terrorism threat. Given that such information would typically be exempt from mandatory disclosure pursuant to FOIA, the Commission determined that it was important to have a process for individuals with a valid or legitimate need to access certain sensitive energy infrastructure information. As such, the Commission's CEII process is designed to limit the distribution of sensitive infrastructure information to those individuals with a need to know in order to avoid having sensitive information fall into the hands of those who may use it to attack the Nation's infrastructure.⁴ This collection was prepared as part of the implementation of the CEII request process.

⁴ The Commission defined CEII to include information about “existing or proposed critical infrastructure that: (i) Relates to the production, generation, transportation, transmission, or distribution of energy; (ii) could be useful to a person planning an attack on critical infrastructure; (iii) is exempt from mandatory disclosure under the Freedom of Information Act, and (iv) does not simply give the location of the critical infrastructure. Critical infrastructure means existing and proposed systems and assets, whether physical or virtual, the incapacity or destruction of which would negatively affect security, economic security, public health or safety, or any combination of those matters.”

On December 4, 2015, the President signed the Fixing America's Surface Transportation Act (FAST Act) into law, which directed the Commission to issue regulations aimed at securing and sharing sensitive infrastructure information.⁵ On November 17, 2016, in Order No. 833 (in Docket No. RM16-15), the Commission adopted a Final Rule implementing the FAST Act by amending its regulations that pertain to the designation, protection, and sharing of CEII. The Final Rule became effective on February 19, 2017.

⁵ Fixing America's Surface Transportation Act, Public Law 114-94, 61,003, 129 Stat. 1312, 1773-1779 (2015) (to be codified at 16 U.S.C. 824 et seq.) (FAST Act).

The FERC-603, Critical Energy/Electric Infrastructure Information (CEII) request form, is largely unchanged from the previously approved versions. As in the previous versions, a person or entity seeking access to CEII must file a request for that information by providing information about their identity and the reason the individual needs the information. With that information, the Commission is able to assess the requester's need for the information against the sensitivity of the information. The updated form has been changed to include one additional requirement, a signed statement from the requester attesting to the accuracy of the information provided in the request. This requirement was inadvertently omitted from the previous form. See 18 CFR 388.113(g)(5)(i)(D).

The Request Form ⁶ is attached to this notice but will not be published in the Federal Register. It will be posted in the Commission's eLibrary system with this Notice.

⁶ The Request Form (and sample non-disclosure agreements) and additional information about the CEII program are posted at: https://www.ferc.gov/enforcement-legal/ceii/overview.

Type of Respondent: Persons and organizations seeking access to CEII.

Estimate of Annual Burden: ⁷ The Commission estimates the total annual burden and cost ⁸ for this information collection as follows.

⁷ “Burden” is the total time, effort, or financial resources expended by persons to generate, maintain, retain, or disclose or provide information to or for a Federal agency. For further explanation of what is included in the information collection burden, refer to Title 5 Code of Federal Regulations 1320.3.

⁸ The Commission staff thinks that the average respondent for this collection is similarly situated to the Commission, in terms of salary plus benefits. Based upon the FERC's 2019 average cost for salary plus benefits, the average hourly cost is $80/hour.

FERC-603: Critical Energy/Electric Infrastructure Information Request
Number of respondents | Annual number of responses per respondent | Total number of responses | Average burden hours and cost ($) per response | Total annual burden hours and total annual cost ($) | Cost ($) per respondent
(1) | (2) | (1) * (2) = (3) | (4) | (3) * (4) = (5) | (5) ÷ (1)
100 | 1 | 100 | 0.3 hrs.; $24 | 30 hrs.; $2,400 | $24

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: July 10, 2020.
Kimberly D. Bose,
Secretary.

[FR Doc. 2020-15353 Filed 7-15-20; 8:45 am]

BILLING CODE 6717-01-P